DEPARTMENT OF JUSTICE

Notice of Lodging of Consent Decree Pursuant to the Comprehensive Environmental Response, Compensation and Liability Act

In accordance with Departmental policy, 28 CFR 50.7, notice is hereby given that two Consent Decrees in United States v. Baureis Realty Co., Inc., et al., Civil No. 95-2732 (D.N.J.), were lodged on October 6, 2000 with the United States District Court for the District of New Jersey.

The complaint in this action seeks to recover, pursuant to the Comprehensive Environmental Response, Compensation, and Liability Act (“CERCLA”), 42 U.S.C. 9601, et al., response costs incurred and to be incurred by EPA at the Caldwell Trucking Superfund Site located in the Fairfield, New Jersey (“Site”).

One of the proposed Consent Decrees embodies an agreement with 76 potentially responsible parties (“PRPs”) at the Site pursuant to section 107 of CERCLA, 42 U.S.C. 9607, to pay $2.75 million in settlement of claims for EPA's past and future response costs at the Site.

The other proposed Consent Decree embodies an agreement with eight PRPs at the Site pursuant to Section 107 of CERCLA, 42 U.S.C. 9607, to pay, in aggregate, $1.65 million in settlement of claims for EPA's past and future response costs at the Site.

The monies paid by the settling defendants under both decrees will be used to reimburse past costs incurred at the Site. Both Consent Decrees provide the settling defendants with releases for civil liability for EPA's past and future CERCLA response costs at the Site.

The Department of Justice will receive, for a period of thirty (30) days from the date of this publication, comments relating to the two proposed Consent Decrees.

Comments should be addressed to the Assistant Attorney General for the Environment and Natural Resources Division, U.S. Department of Justice, P.O. Box 7611, Washington, D.C. 20044-7611, and should refer to United States v. Baureis Realty Co., Inc., et al., DOJ Ref. No. 90-11-3-952D.

The proposed consent decrees may be examined at the Office of the United States Attorney, 970 Broad Street, Rm. 502, Newark, NJ 07102; the Region II Office of the Environmental Protection Agency, and at the Region II Records Center, 290 Broadway, 17th Floor, New York, NY 10007-1866. Copies of the proposed consent decrees may be obtained by mail from the Consent Decree Library, P.O. Box 7611, Washington, DC 20044-7611. In requesting copies, please refer to the referenced case and enclose a check in the amount of $26.00 (25 cents per page reproduction costs), payable to the Consent Decree Library.

Bruce Gelber,
Chief, Environmental Enforcement Section, Environment and Natural Resources Division.

[FR Doc. 00-27005 Filed 10-19-00; 8:45 am]

BILLING CODE 4410-15-M